DEPARTMENT OF THE INTERIOR

Bureau of Land Management

[61510-8451-0000; MTM 80092]

Public Land Order No. 7815; Extension of Public Land Order No. 6997; Montana

AGENCY: Bureau of Land Management, Interior.

ACTION: Public Land Order.

SUMMARY: This order extends the withdrawal created by Public Land Order No. 6997, as corrected, for an additional 20-year period. The extension is necessary to continue the protection of the United States Fish and Wildlife Service's Charles M. Russell National Wildlife Refuge, which would otherwise expire on September 27, 2013.

DATES: As of September 28, 2013.

FOR FURTHER INFORMATION CONTACT: Danielle Kepford, U.S. Fish and Wildlife Service, P.O. Box 110, 406-538-8706, Danielle_Kepford@fws.gov, or Debbie Sorg, Bureau of Land Management, 5001 Southgate Drive, Billings, Montana 59101-4669, 406-896-5045, dsorg@blm.gov. Persons who use a telecommunications device for the deaf (TDD) may call the Federal Information Relay Service (FIRS) at 1-800-877-8339 to contact either of the above individuals during normal business hours. The FIRS is available 24 hours a day, 7 days a week, to leave a message or question with either of the above individuals. You will receive a reply during normal business hours.

SUPPLEMENTARY INFORMATION: The purpose for which the withdrawal was first made requires this extension to continue protection of the Charles M. Russell National Wildlife Refuge. The withdrawal extended by this order will expire on September 27, 2033, unless as a result of a review conducted prior to the expiration date pursuant to Section 204(f) of the Federal Land Policy and Management Act of 1976, 43 U.S.C. 1714(f), the Secretary of the Interior determines that the withdrawal shall be further extended.

Order

By virtue of the authority vested in the Secretary of the Interior by Section 204 of the Federal Land and Policy Act of 1976, 43 U.S.C. 1714, it is ordered as follows:

Public Land Order No. 6997 (58 FR 50518-21 (1993)), as corrected (58 FR 58593 (1993)), which withdrew 891,422.36 acres of public mineral estate from location and entry under the United States mining laws (30 U.S.C. Ch. 2), but not from leasing under the mineral leasing laws, to protect the Charles M. Russell National Wildlife Refuge, is hereby extended for an additional 20-year period until September 27, 2033.

Dated: June 4, 2013.
Rhea S. Suh,
Assistant Secretary—Policy, Management and Budget.

[FR Doc. 2013-14115 Filed 6-13-13; 8:45 am]

BILLING CODE 4310-55-P